DEPARTMENT OF TRANSPORTATION

Federal Aviation Administration

Thirty First RTCA SC-217 Aeronautical Databases Plenary Joint With EUROCAE WG-44

AGENCY: Federal Aviation Administration, U.S. Department of Transportation.

ACTION: Thirty First RTCA SC-217 Aeronautical Databases Plenary Joint with EUROCAE WG-44.

SUMMARY: The FAA is issuing this notice to advise the public of a meeting of Thirty First RTCA SC-217 Aeronautical Databases Plenary Joint with EUROCAE WG-44.

DATES: The meeting will be held November 29-30, 2017 from 9:00 a.m.-5:00 p.m. and December 1, 2017 from 9:00 a.m.-12:00 p.m.

ADDRESSES: The meeting will be held at: Honeywell Aerospace, 21111 N. 19th Ave., Phoenix, AZ, United States.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Thirty First RTCA SC-217 Aeronautical Databases Plenary Joint with EUROCAE WG-44. The agenda will include the following:

Wednesday November 29, 2017, 9:00 a.m.-5:00 p.m.

1. Co-Chairmen's Remarks and Introductions

2. Housekeeping & Meeting Logistics

3. DFO Statement and RTCA/EUROCAE IP and Membership Policies

4. Approve Minutes From 30th Meeting of SC-217/WG-44

5. Review and Approve Meeting Agenda for 30th Meeting of SC-217/WG-44

6. Action Item List Review

7. Presentations (TBD)

8. Working Group Sessions

Thursday November 30, 2017, 9:00 a.m.-5:00 p.m.

9. Working Group Sessions

Friday December 1, 2017, 9:00 a.m.-12:00 p.m.

10. Working Group Sessions

11. Meeting Wrap-Up: Main Conclusions and Way Forward

12. Review of Action Items

13. Review of Document Update Status

14. Next Meetings

15. Any Other Business

16. Adjourn

Attendance is open to the interested public but limited to space availability. Registration is required for attendance. With the approval of the chairman, members of the public may present oral statements at the meeting. Persons wishing to present statements or obtain information should contact the person listed in the FOR FURTHER INFORMATION CONTACT section. Members of the public may present a written statement to the committee at any time.

Issued in Washington, DC, on October 2, 2017.
Mohannad Dawoud,
Management & Program Analyst, Partnership Contracts Branch, ANG-A17, NextGen, Procurement Services Division, Federal Aviation Administration.

[FR Doc. 2017-21715 Filed 10-6-17; 8:45 am]

BILLING CODE 4910-13-P